DEPARTMENT OF THE INTERIOR

National Park Service

[NPS-WASO-NAGPRA-13668; PPWOCRADN0-PCU00RP14.R50000]

Notice of Inventory Completion: U.S. Department of the Interior, National Park Service, Wupatki National Monument, Flagstaff, AZ

AGENCY: National Park Service, Interior.

ACTION: Notice.

SUMMARY: The U.S. Department of the Interior, National Park Service, Wupatki National Monument has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Wupatki National Monument. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Wupatki National Monument at the address in this notice by September 16, 2013.

ADDRESSES: Lisa Leap, Acting Superintendent, Wupatki National Monument, 6400 N Hwy 89, Flagstaff, AZ 86004, telephone (928) 526-1157 ext. 222, email lisa_leap@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Wupatki National Monument, Flagstaff, AZ. The human remains and associated funerary objects were removed from within the boundaries of Wupatki National Monument in Coconino County, AZ.

This notice is published as part of the National Park Service's administrative responsibilities under NAGPRA, 25 U.S.C. 3003(d)(3). The determinations in this notice are the sole responsibility of the Superintendent, Wupatki National Monument.

Consultation

A detailed assessment of the human remains was made by Wupatki National Monument professional staff in consultation with representatives of the Cocopah Tribe of Arizona; Colorado River Indian Tribes of the Colorado River Indian Reservation, Arizona and California; Fort McDowell Yavapai Nation, Arizona; Fort Mojave Indian Tribe of Arizona, California & Nevada; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Kewa Pueblo, New Mexico (previously listed as the Pueblo of Santo Domingo); Mescalero Apache Tribe of the Mescalero Reservation, New Mexico; Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Quechan Tribe of the Fort Yuma Indian Reservation, California & Arizona; Salt River Pima-Maricopa Indian Community of the Salt River Reservation, Arizona; San Carlos Apache Tribe of the San Carlos Reservation, Arizona; San Juan Southern Paiute Tribe of Arizona; Tonto Apache Tribe of Arizona; White Mountain Apache Tribe of the Fort Apache Reservation, Arizona; Yavapai-Apache Nation of the Camp Verde Indian Reservation, Arizona; Yavapai-Prescott Indian Tribe (previously listed as the Yavapai-Prescott Tribe of the Yavapai Reservation, Arizona); Ysleta Del Sur Pueblo of Texas; and Zuni Tribe of the Zuni Reservation, New Mexico. The Pueblo of San Felipe, New Mexico was contacted, but did not have an internal process to address the issue of repatriation. Hereafter, all tribes listed above are referred to as “The Tribes.”

History and Description of the Remains

In 1934, human remains representing, at minimum, one individual were removed from Nalakihu Pueblo, in Coconino County, AZ, during a Civil Works Administration excavation conducted by the Museum of Northern Arizona. The human remains and associated funerary objects are in the physical custody of the Museum of Northern Arizona in Flagstaff, AZ. No known individuals were identified. The 19 associated funerary objects are 9 animal bones, 1 piece of charred cotton cloth, 1 axe, 1 pitcher fragment, 1 Walnut black-on-white mug, 1 Tsegi red-on-orange ladle, 1 Sunset red bowl, 1 Turkey Hill red jar, 2 obsidian projectile points, and 1 piece of charcoal.

On the basis of architecture and ceramics, Nalakihu Pueblo is dated to A.D. 1150-1300. The human remains, a cremation, have been analyzed by physical anthropologists who have determined them to be Native American. The burial was excavated immediately east of and contemporaneous with the site. Incineration occurred on a pyre or platform over a shallow, rectangular basin with a circular pit in the center. Four poles, slanted inward, intersected at about 4 feet above the central pit. The entire pit showed evidence of burning, indicating that the cremation occurred at that location. The cremation method is highly unusual for the Flagstaff and Wupatki areas but is reminiscent of mortuary practices of the lower Colorado River tribes such as the historic Quechan, Halchidohoma, Maricopa, Mojave, and/or Cocopah. The associated funerary objects are similar to Hopi and Zuni objects.

Determinations Made by Wupatki National Monument

Officials of Wupatki National Monument have determined that:

• Pursuant to 25 U.S.C. 3001(9), the human remains described in this notice represent the physical remains of one individual of Native American ancestry.

• Pursuant to 25 U.S.C. 3001(3)(A), the 19 objects described in this notice are reasonably believed to have been placed with or near individual human remains at the time of death or later as part of the death rite or ceremony.

• Pursuant to 25 U.S.C. 3001(2), there is a relationship of shared group identity that can be reasonably traced between the Native American human remains and associated funerary objects and the Cocopah Tribe of Arizona; Colorado River Indian Tribes of the Colorado River Indian Reservation, Arizona and California; Fort Mojave Indian Tribe of Arizona, California & Nevada; Hopi Tribe of Arizona; Quechan Tribe of the Fort Yuma Indian Reservation, California & Arizona; Salt River Pima-Maricopa Indian Community of the Salt River Reservation, Arizona; and Zuni Tribe of the Zuni Reservation, New Mexico.

Additional Requestors and Disposition

Lineal descendants or representatives of any Indian tribe or Native Hawaiian organization not identified in this notice that wish to request transfer of control of these human remains and associated funerary objects should submit a written request with information in support of the request to Lisa Leap, Acting Superintendent, Wupatki National Monument, 6400 N Hwy 89, Flagstaff, AZ 86004, telephone (928) 526-1157 ext. 222, email lisa_leap@nps.gov, by September 16, 2013. After that date, if no additional requestors have come forward, transfer of control of the human remains and associated funerary objects to the Cocopah Tribe of Arizona; Colorado River Indian Tribes of the Colorado River Indian Reservation, Arizona and California; Fort Mojave Indian Tribe of Arizona, California & Nevada; Hopi Tribe of Arizona; Quechan Tribe of the Fort Yuma Indian Reservation, California & Arizona; Salt River Pima-Maricopa Indian Community of the Salt River Reservation, Arizona; and Zuni Tribe of the Zuni Reservation, New Mexico may proceed.

Wupatki National Monument is responsible for notifying The Tribes that this notice has been published.

Dated: July 30, 2013.
Sherry Hutt,
Manager, National NAGPRA Program.

[FR Doc. 2013-20005 Filed 8-15-13; 8:45 am]

BILLING CODE 4312-50-P